SMALL BUSINESS ADMINISTRATION

Senior Executive Service: Performance Review Board Members

AGENCY: U.S. Small Business Administration.

ACTION: Notice of Members for the FY 2011 Performance Review Board.

SUMMARY: Title 5 U.S.C. 4314(c)(4) requires each agency to publish notification of the appointment of individuals who may serve as members of that Agency's Performance Review Board (PRB). The following individuals have been designated to serve on the FY 2011 Performance Review Board for the U.S. Small Business Administration.

1. Delorice Ford, PRB Chairperson, Assistant Administrator Hearings and Appeals

2. Michael Chodos, Associate Administrator for Entrepreneurial Development

3. Nina Levine, Associate General Counsel for Financial Law and Lender Oversight

4. Pravina Raghavan, District Director, New York District Office

5. Tong Qin, Deputy Chief Financial Officer

6. Steven Smits, Associate Administrator for Capital Access

7. Jonathan Swain, Chief of Staff

Karen G. Mills,
Administrator.

[FR Doc. 2011-26833 Filed 10-17-11; 8:45 am]

BILLING CODE P